POSTAL REGULATORY COMMISSION

[Docket No. MC2016-10; Order No. 2781]

New Postal Product

AGENCY: Postal Regulatory Commission.

ACTION: Notice.

SUMMARY: The Commission is noticing a recent Postal Service filing concerning a notice of classification change to Country Price Lists for International Mail. This notice informs the public of the filing, invites public comment, and takes other administrative steps.

DATES: Comments are due: November 3, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On October 22, 2015, the Postal Service filed a notice of classification changes under Commission rule 39 CFR 3020.90.¹ The Postal Service seeks to make changes to the Country Price Lists for International Mail in Part D of the Mail Classification Schedule. The changes are intended to become effective on January 17, 2016. Notice at 1.

¹ Notice of United States Postal Service of Classification Changes, October 22, 2015 (Notice).

II. Summary of Changes

The first of the proposed changes is the creation of a separate country listing for Bonaire, St. Eustatius, and Saba due to a new designated operator for the three islands. Id. The new country listing falls within the following mailing services: Single-Piece First-Class Mail International service; First-Class Package International service; Global Express Guaranteed service; Priority Mail Express International service and Priority Mail International service; International Priority Airmail service; and International Surface Air Lift service. Id. at 1-2.

The new country listing also has mailing services and pricing groupings for Priority Mail Express International Flat Rate Envelope and Priority Mail International Flat Rate Envelopes and Boxes that the Postal Service states are in accordance with the competitive price change filed in Docket No. CP2016-9.² The Postal Service states that the addition of the Bonaire, St. Eustatius, and Saba country listing will be published in the December 10, 2015, Postal Bulletin. Notice at 2.

² Id. See Docket No. CP2016-9, Notice of the United States Postal Service of Changes in Rates of General Applicability for Competitive Products Established in Governors' Decision No. 15-1, October 16, 2015.

The second mail classification change is a revision of the country rate group for International Priority Airmail and International Surface Air Lift service for Curacao and Sint Maarten. Id. The Postal Service notes that this is consistent with Exhibits 292.45a and 293.45a of the International Mail Manual. Id.

Finally, the third classification change replaces the country name St. Kitts (St. Christopher) & Nevis with Saint Kitts & Nevis. Id. The Postal Service states that it published notice of the change in the February 5, 2015, Postal Bulletin. Id.

The Postal Service states that the proposed changes satisfy the requirements of 39 CFR 3020.90 because the changes should result in a more accurate representation of the Postal Service's offerings, the notice is filed more than 15 days prior to the intended effective date, and none of the three parts constitute a material change to the product descriptions. Id. at 2-3. The Postal service also asserts that the proposed changes are consistent with 39 U.S.C. 3642 because no products are being added or removed, or transferred between market dominant and competitive products designations. Id. at 3.

III. Notice of Commission Action

Pursuant to 39 CFR 3020.91, the Commission has posted the Notice on its Web site and invites comments on whether the Postal Service's filings are consistent with the policies of 39 U.S.C. 3642 and 39 CFR 3020 subpart E. Comments are due no later than November 3, 2015. The public portions of these filings can be accessed via the Commission's Web site (http://www.prc.gov).

The Commission appoints John F. Rosato to represent the interests of the general public (Public Representative) in this docket.

IV. Ordering Paragraphs

It is ordered:

1. The Commission establishes Docket No. MC2016-10 to consider matters raised by the Notice.

2. Pursuant to 39 U.S.C. 505, John F. Rosato is appointed to serve as an officer of the Commission (Public Representative) to represent the interests of the general public in this proceeding.

3. Comments by interested persons are due by November 3, 2015.

4. The Secretary shall arrange for publication of this order in the Federal Register.

By the Commission.
Stacy L. Ruble,
Secretary.

[FR Doc. 2015-27664 Filed 10-29-15; 8:45 am]

BILLING CODE 7710-FW-P